DEPARTMENT OF ENERGY

Federal Energy Regulatory Commission

[Project No. 2467-020]

Pacific Gas and Electric Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New License.

b. Project No.: 2467-020.

c. Date filed: February 8, 2012.

d. Applicant: Pacific Gas and Electric Company (PG&E).

e. Name of Project: Merced Falls Hydroelectric Project.

f. Location: The existing project is located on the Merced River on the border of Merced and Mariposa counties, California, immediately downstream of the Merced River Hydroelectric Project (FERC No. 2179), operated by the Merced Irrigation District (Merced ID). The project would occupy 1.62 acres of Federal land managed by the Bureau of Land Management.

g. Filed Pursuant to: Federal Power Act 16 U.S.C. 791(a)-825.

h. Applicant Contact: Pacific Gas and Electric Company, Power Generation, P.O. Box 770000, MC N11C, San Francisco, CA 94177-0001; Telephone (415) 973-7000.

i. FERC Contact: Matt Buhyoff, (202) 502-6824 or matt.buhyoff@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2467-020.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Merced Falls Hydroelectric Project consists of: (1) A concrete gravity dam with a structural height of 34 feet, and a crest length of 575 feet; (2) three radial gates, each 20 feet in length and 13.5 feet high; (3) a one-mile long project impoundment has approximately 900 acre-feet of storage capacity, a useable storage capacity of approximately 579 acre-feet, a total surface area of approximately 65 acres; and a normal impoundment elevation of 344 feet msl; (4) a powerhouse housing a 3.4-megawatt (MW) turbine/generator unit and a vertical Kaplan-type four blade turbine; (5) a 1,000-feet long earthen levee with a crest width of eight feet; (6) an adjacent intake structure with a debris rack, and; (7) a non-operable fish ladder.

The Merced Falls Project is operated in a run-of-river mode dependent on water outflow from Merced ID's upstream Merced River Project. Inflow to the project passes through the impoundment, which is kept at a constant water elevation and then either through the powerhouse or through the dam's radial gates. Flows of up to approximately 1,750 cubic feet per second (cfs) are diverted through the powerhouse, and then discharged to the Merced River via the tailrace. When inflows exceed 2,200 cfs, the project spills water. During flood events with flows greater than 12,250 cfs, the needle beams can be dropped, allowing the 575-feet concrete section of the dam to act as a spillway. Power is transmitted via underground cable to a non-project switchyard located adjacent to the powerhouse.

The project has a dependable capacity of 1.7 MW and an annual average generation of approximately 13.5-GWh (gigawatt-hours). PG&E is not proposing any new or upgraded facilities or structural changes to the project. PG&E does propose to modify the project boundary by removing approximately 4.8 acres of project lands, which PG&E indicates are not needed for project purposes.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application.

A copy of all other filings in reference to this application must be accompanied by proof of service on all persons listed in the service list prepared by the Commission in this proceeding, in accordance with 18 CFR 4.34(b) and 385.2010.

o. Procedural Schedule:

The application will be processed in conjunction with the Merced River Hydroelectric Project application (P-2179-042) and according to the following revised Hydro Licensing Schedule. Revisions to the schedule may be made as appropriate.

Milestone | Target date
Filing of recommendations, preliminary terms and conditions, and preliminary fishway prescriptions | May, 2014.
Commission issues Draft EA or EIS | November, 2014.
Comments on Draft EA or EIS | January, 2015.
Modified Terms and Conditions | March, 2015.
Commission Issues Final EA or EIS | June, 2015.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: March 24, 2014.
Kimberly D. Bose,
Secretary.

[FR Doc. 2014-07306 Filed 4-1-14; 8:45 am]

BILLING CODE 6717-01-P